DEPARTMENT OF COMMERCE

National Oceanic and Atmospheric Administration

50 CFR Part 679

[Docket No. 000119015-0015-01; I.D. 010500A]

RIN 0648-AM32

Fisheries of the Exclusive Economic Zone Off Alaska; Steller Sea Lion Protection Measures for the Pollock Fisheries Off Alaska

AGENCY: National Marine Fisheries Service (NMFS), National Oceanic and Atmospheric Administration (NOAA), Commerce.

ACTION: Emergency interim rule; extension of expiration date; request for comments.

SUMMARY: NMFS extends the expiration date of an emergency interim rule that implemented reasonable and prudent alternatives to avoid the likelihood that the pollock fisheries off Alaska will jeopardize the continued existence of the western population of Steller sea lions, or adversely modify their critical habitat. The emergency interim rule that is effective from January 20, 2000, through July 19, 2000, is extended through December 31, 2000. This emergency action is necessary to continue to implement reasonable and prudent alternatives until permanent rulemaking is implemented.

DATES: The expiration date of the emergency interim rule published January 25, 2000 (65 FR 3892), is extended to December 31, 2000. Comments must be received by July 12, 2000.

ADDRESSES: Comments may be sent to Sue Salveson, Assistant Regional Administrator, Sustainable Fisheries Division, Alaska Region, NMFS, P.O. Box 21668, Juneau, AK, 99802, Attn: Lori Gravel, or delivered to room 401 of the Federal Building, 709 West 9th Street, Juneau, AK. Copies of the Biological Opinion (BiOp) on the pollock fisheries of the Bering Sea and Aleutian Islands (BSAI) and Gulf of Alaska (GOA) and the Atka mackerel fishery of the Aleutian Islands subarea, the Revised Final Reasonable and Prudent Alternatives (RFRPAs), and the Environmental Assessment/Regulatory Impact Review prepared for the emergency interim rule may be obtained from the same address. The BiOp and the RFRPAs are also available on the Alaska Region home page at http://www.fakr.noaa.gov. Comments will not be accepted if submitted via e-mail or Internet.

FOR FURTHER INFORMATION CONTACT: Shane Capron, 907-586-7228 or shane.capron@noaa.gov

SUPPLEMENTARY INFORMATION: NMFS issued a BiOp dated December 3, 1998, and revised December 16, 1998, on the pollock fisheries of the BSAI and GOA, and the Atka mackerel fishery of the Aleutian Islands Subarea. The BiOp concluded that the BSAI and GOA pollock trawl fisheries, as previously prosecuted, were likely to jeopardize the continued existence of the western population of Steller sea lions, and adversely modify its critical habitat.

The BiOp concluded that, to avoid the likelihood of jeopardizing the continued existence of the western population of Steller sea lions, or adversely modifying its critical habitat, reasonable and prudent alternatives to the existing pollock trawl fisheries in the BSAI and GOA must accomplish three basic principles: (1) Temporal dispersion of fishing effort, (2) spatial dispersion of fishing effort, and (3) pollock trawl exclusion zones around Steller sea lion rookeries and haulouts.

NMFS published an emergency interim rule implementing the RFRPAs in the Federal Register on January 25, 2000 (65 FR 3892), amended on February 10, 2000 (65 FR 6561), and is effective through July 19, 2000.

At its April 2000 meeting, the North Pacific Fishery Management Council (Council) voted to recommend extension of the emergency rule. The preamble to the original emergency interim rule provides a detailed description of the purpose and need for the action. This action extends the expiration date of the emergency interim rule establishing Steller sea lion conservation measures (65 FR 3892, January 25, 2000) from July 19, 2000, to December 31, 2000.

NMFS intends to initiate proposed and final rulemaking later in 2000 to permanently implement Steller sea lion conservation measures as required by the BiOp and the RFRPAs, and as recommended by the Council at its June 1999 meeting. This extension of an emergency interim rule is necessary to prosecute the remainder of the 2000 pollock fishery after July 19, 2000.

Details concerning the basis for this action are contained in the initial emergency interim rule and are not repeated here.

The comments received on the initial emergency interim rule and this emergency rule extension will be responded to later this year in NMFS' final rulemaking to permanently implement Steller sea lion conservation measures. Also, there will be an additional opportunity for comments when the proposed rule is published prior to final rulemaking.

Authority: 16 U.S.C. 773 et seq., 1801 et seq., and 3631 et seq.

Dated: June 6, 2000.
Bruce C. Morehead,
Acting Assistant Administrator for Fisheries, National Marine Fisheries Service.

[FR Doc. 00-14776 Filed 6-9-00; 8:45 am]

BILLING CODE 3510-22-F